DEPARTMENT OF HOMELAND SECURITY

Coast Guard

[Docket No. USCG-2024-0433]

National Merchant Mariner Medical Advisory Committee; September 2024 Virtual Meeting

AGENCY: Coast Guard, Department of Homeland Security.

ACTION: Notice of open Federal advisory committee virtual meeting.

SUMMARY: The National Merchant Mariner Medical Advisory Committee (Committee) will conduct a virtual open meeting to discuss matters relating to medical certification determinations for issuance of licenses, certificates of registry, and merchant mariners' documents, medical standards, and guidelines for the physical qualifications of operators of commercial vessels, medical examiner education, and medical research. The virtual meeting will be open to the public.

DATES:

Meeting: The Committee will meet virtually on Wednesday, September 11, 2024, from 9 a.m. until 4 p.m. Eastern Daylight Time (EDT). The virtual meeting may adjourn early if the Committee has completed its business.

Comments and supporting documentation: To ensure your comments are received by the Committee before the virtual meeting, submit your written comments no later than September 3, 2024.

ADDRESSES: To join the virtual meeting or to request special accommodations, contact the individual listed in the FOR FURTHER INFORMATION CONTACT section no later than 1 p.m. EDT on September 3, 2024, to obtain the specific meeting information. The number of virtual lines is limited and will be available on a first-come, first-served basis.

The Committee is committed to ensuring all participants have equal access regardless of disability status. If you require reasonable accommodation due to a disability to fully participate, please email the individual in the FOR FURTHER INFORMATION CONTACT section above as soon as possible.

Instructions: You are free to submit comments at any time, including orally at the virtual meeting as time permits, but if you want Committee members to review your comment before the virtual meeting, please submit your comments no later than September 3, 2024. We are particularly interested in comments on the issues in the “Agenda” section below. We encourage you to submit comments through the Federal Decision Making Portal at https://www.regulations.gov. To do so, go to https://www.regulations.gov, type USCG-2024-0433 in the search box and click “Search”. Next, look for this document in the Search Results column, and click on it. Then click on the Comment option. If your material cannot be submitted using https://www.regulations.gov, email the individual in the FOR FURTHER INFORMATION CONTACT section of this document for alternate instructions. You must include the docket number USCG-2024-0433. Comments received will be posted without alteration at http://www.regulations.gov, including any personal information provided. You may wish to review the Privacy and Security Notice, found via link on the homepage https://www.regulations.gov and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Ms. Pamela Moore, Alternate Designated Federal Officer of the National Merchant Mariner Medical Advisory Committee, telephone 202-372-1361 or email pamela.j.moore@uscg.mil.

SUPPLEMENTARY INFORMATION: Notice of the virtual meeting is in compliance with the Federal Advisory Committee Act (Pub. L. 117-286, 5 U.S.C. ch. 10). The Committee is authorized on December 4, 2018, by section 601 of the Frank LoBiondo Coast Guard Authorization Act of 2018 and is codified in 46 U.S.C. 15104. The Committee operates under the provisions of the Federal Advisory Committee Act and 46 U.S.C. 15109. The Committee advises the Secretary of Homeland Security through the Commandant, Coast Guard on matters relating to: (a) medical certification determinations for issuance of licenses, certificates of registry, and merchant mariners' documents; (b) medical standards and guidelines for the physical qualifications of operators of commercial vessels; (c) medical examiner education; and (d) medical research.

Agenda

The National Merchant Mariner Medical Advisory Committee will meet virtually on Wednesday, September 11, 2024:

(1) Introduction.

(2) Designated Federal Officer Remarks.

(3) Remarks from U.S. Coast Guard Leadership.

(4) Swearing In of New Members.

(5) Roll call of Committee members and determination of a quorum.

(6) Acceptance of Minutes from NMEDMAC Meeting 7.

(7) Presentation of New Task—Task Statement 24-X4, Mariner Credentialing Program (MCP) Transformation.

Following presentation of the new task, the Committee will request public feedback, deliberate on any questions raised, and then vote on acceptance of the task.

(8) U.S. Coast Guard Presentations.

(9) Subcommittee Briefings (six).

The Subcommittee Chairs for the six subcommittees listed below will brief the Committee on the status of their work on their assigned Task Statement. Following each subcommittee briefing, the Committee will request public feedback, deliberate on any proposed recommendations, and then vote on the proposed recommendations.

The following six subcommittees will brief the Committee.

(a) Task Statement 21-01, Recommendations on Mariner Mental Health Subcommittee;

(b) Task Statement 21-02, Communication Between External Stakeholders and the Mariner Credentialing Program Subcommittee;

(c) Task Statement 23-01, Directed Review of the COMDTINST M16721.48, Merchant Mariner Medical Manual Subcommittee;

(d) Task Statement 24-01, Sharing Committee Recommendations for Mariner Health and Wellness through Proceedings Magazine Subcommittee;

(e) Task Statement 24-02, Review of the 1978 STCW Convention and Code Seafarer Medical Standards Subcommittee; and

(f) Task Statement 24-03, Recommendations for Seafarer Training Requirements in Mental Health and Women's Health Subcommittee.

(10) Committee public comment period (opportunity for public comment regarding the full Committee meeting).

(11) Closing remarks.

(12) Adjournment of meeting.

A copy of all meeting documentation will be available at https://homeport.uscg.mil/missions/federal-advisory-committees/national-merchant-mariner-medical-advisory-committee-(nmedmac) no later than September 3, 2024. Alternatively, you may contact the individual noted in the FOR FURTHER INFORMATION CONTACT section above.

Public comments can be made after each subcommittee briefing and at the end of the full Committee meeting. Each public comment in the plenary session will be limited to 3 minutes per speaker. Please contact the individual listed in the FOR FURTHER INFORMATION CONTACT section to register as a speaker.

Dated: August 19, 2024.
Jeffrey G. Lantz,
Director of Commercial Regulations and Standards.

[FR Doc. 2024-18878 Filed 8-21-24; 8:45 am]

BILLING CODE 9110-04-P